DEPARTMENT OF STATE

[Public Notice: 9217]

30-Day Notice of Proposed Information Collection: Electronic Choice of Address and Agent

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to September 9, 2015.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

Fax: 202-395-5806. Attention: Desk Officer for Department of State.

FOR FURTHER INFORMATION CONTACT: Direct requests for additional information regarding the collection listed in this notice, including requests for copies of the proposed collection instrument and supporting documents, to George Weber, who may be reached on 202-485-7637 or at PRA_BurdenComments@state.gov.

SUPPLEMENTARY INFORMATION:

• Title of Information Collection: Electronic Choice of Address and Agent.

• OMB Control Number: 1405-0186.

• Type of Request: Extension of a Currently Approved Collection.

• Originating Office: CA/VO/LR.

• Form Number: DS-261.

• Respondents: Immigrant Visa Applicants.

• Estimated Number of Respondents: 250,000.

• Estimated Number of Responses: 250,000.

• Average Time Per Response: 10 minutes.

• Total Estimated Burden Time: 25,000 hours.

• Frequency: Once Per Respondent.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-261 allows the beneficiary of an approved immigrant visa petition to provide the Department with his or her current address, which will be used for communications with the beneficiary. The DS-261 also allows the beneficiary to appoint an agent to receive communications relevant communications relevant to the beneficiary's visa application from the National Visa Center (NVC) and assist in the filing of various application forms and/or paying the required fees. The beneficiary is not required to use an agent. The NVC can contact them directly. If the beneficiary chooses to serve as their own agent and have the NVC contact them directly, they will need to provide the NVC with their current contact information. All cases will be held at NVC until the DS-261 is electronically submitted to the Department.

Methodology

Applicants will submit the DS-261 electronically to the Department via the Internet.

Dated: July 9, 2015.
Edward J. Ramotowski,
Deputy Assistant Secretary, Bureau of Consular Affairs, Department of State.

[FR Doc. 2015-19584 Filed 8-7-15; 8:45 a.m.]

BILLING CODE 4710-06-P